DEPARTMENT OF TRANSPORTATION

Surface Transportation Board

[STB Docket No. MC-F-21033]

Holland America Line Inc.—Acquisition—Royal Hyway Tours, Inc.

AGENCY: Surface Transportation Board, DOT.

ACTION: Notice tentatively approving finance transaction.

SUMMARY: Holland America Line Inc. (Applicant), a noncarrier, has filed an application under 49 U.S.C. 14303 to acquire 100% control of the stock of Royal Hyway Tours, Inc. (RHT) (MC-143881), a motor passenger carrier (MC-182214). Persons wishing to oppose this application must follow the rules at 49 CFR 1182.5 and 1182.8. The Board has tentatively approved the transaction, and, if no opposing comments are timely filed, this notice will be the final Board action.

DATES: Comments must be filed by May 15, 2009. Applicant may file a reply by June 1, 2009. If no comments are filed by May 15, 2009, this notice is effective on that date.

ADDRESSES: Send an original and 10 copies of any comments referring to STB Docket No. MC-F-21033 to: Surface Transportation Board, 395 E Street, SW., Washington, DC 20423-0001. In addition, send one copy of comments to Applicant's representative: Jeremy Kahn, Esq., Kahn and Kahn, 1730 Rhode Island Ave., NW., Suite 810, Washington, DC 20036.

FOR FURTHER INFORMATION CONTACT: Julia M. Farr, (202) 245-0359. [Federal Information Relay Service (FIRS) for the hearing impaired: 1-800-877-8339.]

SUPPLEMENTARY INFORMATION: Applicant is a Washington corporation and controls five other Federal Motor Carrier Safety Administration registered motor passenger carriers: (1) Evergreen Trails, Inc., d/b/a Gray Line of Seattle (MC-107638); (2) Westours Motor Coaches, Inc. (MC-118832); (3) Westmark Hotels of Canada Ltd. (MC-405618); (4) Horizon Coach Lines, Ltd. (MC-144339); and (5) Discover Alaska Tours, Inc. (DAT) (MC-636105). RHT holds a minority non-controlling interest in DAT. Applicant states that the acquisition of control of RHT is part of an internal corporate restructuring including Applicant and several noncarrier subsidiaries and affiliates. Applicant states that it is likely that DAT will be merged into RHT upon completion of the proposed transaction, with RHT being the surviving entity. Applicant states that the annual aggregate gross revenues of the 5 carriers that it controls exceed $2 million.

Under 49 U.S.C. 14303(b), the Board must approve and authorize a transaction found to be consistent with the public interest, taking into consideration at least: (1) The effect of the transaction on the adequacy of transportation to the public; (2) the total fixed charges that result; and (3) the interest of affected carrier employees.

Applicant has submitted information, as required by 49 CFR 1182.2, including the information to demonstrate that the proposed transaction is consistent with the public interest under 49 U.S.C. 14303(b). Applicant states that the proposed transaction will improve the adequacy of transportation services available to the public, that the proposed transaction will not have an adverse effect on total fixed charges, and that the interests of employees of RHT, other than possibly a small number of administrative employees, will not be adversely impacted. Applicants also state that the charter/tour bus segment is competitive, that the transaction will not adversely impact competition, and that this agency's prior finding regarding low entry barriers in this segment continues to be accurate. Additional information, including a copy of the application, may be obtained from Applicant's representative. A copy of the application is also available on the Board's Web site at http://www.stb.dot.gov.

On the basis of the application, we find that the proposed acquisition is consistent with the public interest and should be authorized. If any opposing comments are timely filed, this finding will be deemed vacated and, unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered:

1. The proposed finance transaction is approved and authorized, subject to the filing of opposing comments.

2. If timely opposing comments are filed, the findings made in this notice will be deemed as having been vacated.

3. This notice will be effective on May 15, 2009, unless timely opposing comments are filed.

5. A copy of this notice will be served on: (1) The U.S. Department of Transportation, Federal Motor Carrier Safety Administration, 1200 New Jersey Avenue, SE., Washington, DC 20590; (2) the U.S. Department of Justice, Antitrust Division, 10th Street & Pennsylvania Avenue, NW., Washington, DC 20530; and (3) the U.S. Department of Transportation, Office of the General Counsel, 1200 New Jersey Avenue, SE., Washington, DC 20590.

Decided: March 31, 2009.
By the Board, Chairman Mulvey, and Vice Chairman Nottingham.
Jeffrey Herzig,
Clearance Clerk.

[FR Doc. E9-7513 Filed 4-2-09; 8:45 am]

BILLING CODE 4915-01-P